DEPARTMENT OF AGRICULTURE

Food and Nutrition Service

Agency Information Collection Activities: Proposed Collection; Comment Request; Supplemental Form for Collecting Taxpayer Identifying Numbers

AGENCY: Food and Nutrition Service, USDA.

ACTION: Notice.

SUMMARY: In accordance with the Paperwork Reduction Act of 1995, this notice invites the general public and other public agencies to comment on the Agency's proposed information collection of taxpayer identifying numbers.

DATES: Written comments must be submitted on or before September 29, 2006.

ADDRESSES: Comments are invited on: (a) Whether the proposed collection of information is necessary for the proper performance of the functions of the agency, including whether the information has practical utility; (b) the accuracy of the agency's estimate of the burden of the proposed collection of information, including the validity of the methods and assumptions used; (c) ways to enhance the quality, utility and clarity of the information to be collected; (d) ways to minimize the burden of the collection of information on those who are to respond, including the use of appropriate automated, electronic, mechanical or other technological collection techniques or other forms of information technology. Comments may be sent to Mark Porter, Grants Management Division, Food and Nutrition Service, U.S. Department of Agriculture, 3101 Park Center Drive, Alexandria, VA 22302.

All responses to this notice will be summarized and included in the request for OMB approval. All comments will also become a matter of public record.

FOR FURTHER INFORMATION CONTACT: Requests for additional information or copies of the information collection form and instruction should be directed to Mark Porter at (703) 305-2847.

SUPPLEMENTARY INFORMATION: Title: Supplemental Form for Collecting Taxpayer Identifying Numbers, FNS-711.

OMB Number: 0584-0501.

Expiration Date: September 30, 2006.

Type of Request: Extension of a currently approved information collection.

Abstract: Section 31001(y) of the Debt Collection Improvement Act of 1996 (Pub. L. 104-134), codified at 31 U.S.C. 3325(d), requires Federal agencies to include the taxpayer identifying number (TIN) of all persons or organizations they pay whenever a request for payment is submitted to Federal payment officials. Departmental Regulation 2100-2 reflects the statutory provision at 31 U.S.C. 7701(c) which requires all individuals and entities doing business with USDA to furnish a TIN. The purpose of the Supplemental Form for Collecting Taxpayer Identifying Numbers is to comply with Federal law by enabling the Agency to legally obtain a TIN from all persons and organizations who are entered into a direct payment relationship with FNS.

Affected Public: Individuals and entities who enter into a direct payment agreement with FNS under any of the various nutrition and nutrition education programs administered by FNS.

Estimated Number of Respondents: 800.

Number of Responses per Respondent: 1.

Estimated Total Annual Responses: 800.

Hours per Response: 0.0833.

Total Annual Reporting Hours: 66.6.

Number of Recordkeepers: 8.

Estimated Annual Hours per Recordkeeper: 1.0.

Total Annual Recordkeeping Hours: 8.

Total Annual Burden Hours: 74.6 (annual reporting hours plus annual recordkeeping hours).

Dated: July 20, 2006.
Roberto Salazar,
Administrator, Food and Nutrition Service.

[FR Doc. E6-12141 Filed 7-28-06; 8:45 am]

BILLING CODE 3410-30-P